DEPARTMENT OF HEALTH AND HUMAN SERVICES

Centers for Disease Control and Prevention

[Funding Opportunity Number: CE05-024]

Community-Based Interventions for Alcohol-Impaired Driving; Notice of Availability of Funds—Amendment

A notice announcing the availability of fiscal year (FY) 2005 funds for cooperative agreements to conduct a research program to evaluate interventions to decrease alcohol-impaired driving in community settings and the resulting deaths and injuries was published in the Federal Register on November 19, 2004, Vol. 69, No. 223, pages 67738-67744. The notice is amended as follows to remove the requirement for submission of Letters of Intent (LOI):

On page 67740, column 1, in the third bullet of Special Requirements, change the first sentence to read “In order to plan the application review more effectively and efficiently, CDC requests that you submit a Letter of Intent (LOI) to apply for this program.”

On page 67741, column 1, in section IV.3. Submission Dates and Times, remove the one-sentence paragraph under Letter of Intent (LOI): December 20, 2004.

Dated: December 23, 2004.
William P. Nichols,
Director, Procurement and Grants Office, Centers for Disease Control and Prevention.

[FR Doc. 04-28661 Filed 12-30-04; 8:45 am]

BILLING CODE 4163-18-P